DEPARTMENT OF JUSTICE

Antitrust Division

Notice Pursuant to the National Cooperative Research and Production Act of 1993—Revision of Voluntary Standard (ANSI/SVIA-1-2001) for Four-Wheel All-Terrain Vehicles

Notice is hereby given that, on June 13, 2006, pursuant to Section 6(a) of the National Cooperative Research and Production Act of 1993, 15 U.S.C. 4301 et seq. (“the Act”), the parties involved in a joint venture regarding review and revision of the current voluntary standard (ANSI/SVIA-1-2001) for four-wheel all-terrain vehicles have filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties are: American Honda Motor Co., Inc., Torrance CA; American Suzuki Motor Corporation, Brea, CA; Arctic Cat Inc., Thief River Falls, MN; Bombardier Recreational Products, Inc., Valcourt, Quebec, Canada; Deere & Company, Moline, IL; Kawasaki Motors Corp., U.S.A., Irvine, CA; Polaris Industries Inc., Medina, MN; and Yamaha Motor Corporation, U.S.A., Cypress, CA. The general areas of the joint venture's planned activities are conducting research and collecting, exchanging and analyzing research information relating to review and revision of the current voluntary standard for four-wheel ATVs (ANSI/SVIA-1-2001).

Patricia A. Brink,
Deputy Director of Operations, Antitrust Division.

[FR Doc. 06-6778 Filed 8-8-06; 8:45 am]

BILLING CODE 4410-11-M